DEPARTMENT OF COMMERCE

Foreign-Trade Zones Board

[B-41-2013]

Foreign-Trade Zone 75—Phoenix, Arizona, Authorization of Limited Production Activity, Honeywell Aerospace, Inc. (Aircraft Engines, Systems and Components), Phoenix and Tempe, Arizona

On May 3, 2013, the City of Phoenix, grantee of FTZ 75, submitted a notification of proposed production activity to the Foreign-Trade Zones (FTZ) Board on behalf of Honeywell Aerospace, Inc., within Subzone 75J, in Phoenix and Tempe, Arizona.

The notification was processed in accordance with the regulations of the FTZ Board (15 CFR part 400), including notice in the Federal Register inviting public comment (78 FR 27951-27952, 05-13-2013). Based on the FTZ Board's determination in this proceeding, the production activity described in the notification is authorized, subject to the FTZ Act and the Board's regulations, including Section 400.14, and further subject to a restriction requiring the admission in privileged foreign status (19 CFR 146.41) of the unwrought titanium-alloy input proposed for the production activity.

Dated: September 4, 2013.
Andrew McGilvray,
Executive Secretary.

[FR Doc. 2013-22474 Filed 9-13-13; 8:45 am]

BILLING CODE 3510-DS-P